DEPARTMENT OF VETERANS AFFAIRS

[OMB Control No. 2900-0923]

Agency Information Collection Activity: Request for Restoration of Entitlement Due to Facility Closure, Program of Training or Course Disapproval (Chapter 31 Veteran Readiness and Employment)

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before March 9, 2026.

ADDRESSES: Comments must be submitted through www.regulations.gov.

FOR FURTHER INFORMATION CONTACT:

Program-Specific information: Kendra McCleave, 202-461-9760, Kendra.McCleave@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: VA Form 28-10281, Request for Restoration of Entitlement Due to Facility Closure, Program of Training or Course Disapproval (Chapter 31 Veteran Readiness and Employment).

OMB Control Number: 2900-0923. https://www.reginfo.gov/public/do/PRASearch (Once at this link, you can enter the OMB Control Number to find the historical versions of this Information Collection).

Type of Review: Revision of a currently approved collection.

Abstract: VA Form 28-10281 is used by a Service member or Veteran to request restoration of entitlement due to effects of a facility closure or program of training or course disapproval. The VR&E program subsequently uses the information on this form to determine if a Service member or Veteran qualifies for restoration of entitlement under 38 U.S.C. 3699(b)(1)(A). Without the information, restoration of entitlement under Chapter 31 could not be determined. Veterans and Service members are able to access and complete the VA Form 28-10281 by using the VA Forms external website “Find a Form” and submit the completed and signed form one of the following ways: by mail, email to their assigned Vocational Rehabilitation Counselor (VRC), in-person to a VA Regional Office, or VR&E out-based location. The Veteran or Service member receives a notification letter if their request for restoration of entitlement is granted or denied by their assigned VRC. The number of annal burden hours have increased since the number of Veterans in new plans of service enrollments have increased since the last approval.

Affected Public: Individuals and households.

Estimated Annual Burden: 24,105 hours.

Estimated Average Burden per Respondent: 10 minutes.

Frequency of Response: On occasion.

Estimated Number of Respondents: 144,630.

(Authority: 44 U.S.C. 3501 et seq.)

Dorothy Glasgow,
Acting, VA PRA Clearance Officer, Office of Information Technology/Data Governance Analytics, Department of Veterans Affairs.

[FR Doc. 2026-00001 Filed 1-5-26; 8:45 am]

BILLING CODE 8320-01-P